DEPARTMENT OF THE INTERIOR

Bureau of Land Management

[NV-040-03-5101-ER-F336; N-74943]

Notice of Availability of the Proposed Toquop Land Disposal Amendment to the Caliente Management Framework Plan and Final Environmental Impact Statement for the Toquop Energy Project

AGENCY: Bureau of Land Management, Interior.

ACTION: Notice of availability of the proposed Toquop Land Disposal Amendment to the Caliente Management Framework Plan (MFP) and Final Environmental Impact Statement (FEIS) for the Toquop Energy Project.

SUMMARY: Pursuant to section 102(2)(C) of the National Environmental Policy Act (NEPA) of 1969, an FEIS has been prepared by the Bureau of Land Management (BLM), Ely Field Office, for the Toquop Energy Project. The FEIS was prepared to evaluate the effects of amending the Caliente Management Framework Plan to identify specific sections of land as available for disposal through sale or exchange, effects of an exchange of 640 acres in the Toquop area for 640 acres in the Pah Rah area, and to analyze the impacts of issuing a right-of-way for the construction and operation of a natural gas fired electric power generating plant and associated facilities on public land currently administered by the Ely and Las Vegas Field Offices of the BLM.

DATES: The Proposed Toquop Land Disposal Amendment to the Caliente Management Framework Plan and Final Environmental Impact Statement for the Toquop Energy Project is available for a 30-day protest period starting from the date the Environmental Protection Agency (EPA) publishes its NOA in the Federal Register. Copies of the FEIS will be mailed to individuals, agencies, or companies who previously requested copies. Instructions for filing protests are contained in the Final Environmental Impact Statement document cover sheet just inside the front cover, and are included below under SUPPLEMENTARY INFORMATION.

ADDRESSES: Public reading copies of the FEIS will be available for reading at public libraries: Caliente Branch Library; Clark County Library; Las Vegas Public Library; Lincoln County Library; Mesquite Library; North Las Vegas Library; Panaca High School Library; University of Nevada-Las Vegas; James R. Dickinson Library Documents Department; University of Nevada-Reno; Getchell Library Government Publication Dept.; Washoe County Library; White Pine County Library. A limited number of copies of the document will be available at the following BLM offices: BLM Nevada State Office, Las Vegas Field Office, Caliente Field Station, and Ely Field Office.

FOR FURTHER INFORMATION CONTACT: Gene A. Kolkman, Field Manager, Bureau of Land Management, Ely Field Office, 702 N. Industrial Way, Ely, Nevada 89301-9408; telephone (775) 289-1800.

SUPPLEMENTARY INFORMATION: The Environmental Protection Agency published the notice of availability of the Draft EIS (DEIS) on May 31, 2002. The public comment period on the DEIS ended August 29, 2002. The FEIS addresses alternatives to resolve the following major issues: ground water resources, air quality, economic benefits, and desert tortoise habitat.

This proposed Toquop Land Disposal Amendment to the Caliente MFP and FEIS for the Toquop Energy Project evaluates the environmental effects that would result from issuance of a right-of-way for the construction of the proposed Toquop Energy electric power generating plant. This 1,100-megawatt (MW) natural gas-fired and water-cooled power plant and associated features would be located on public lands in Lincoln County and Clark County, southern Nevada, that are presently managed by the Ely and Las Vegas Field Offices of the U.S. Bureau of Land Management (BLM). The power plant site for the proposed action is approximately 50 miles south-southeast of Caliente, Nevada, and 12 miles northwest of Mesquite, Nevada. An alternative power plant site located in the Tule Desert approximately 12 miles north-northwest of the Toquop Wash plant site and an alternative air-cooled plant located at the Toquop Wash plant site are evaluated. This document also evaluates the effects of amending the Caliente MFP, which would identify specific sections of land as available for disposal. This action would be needed to dispose of 640 acres in the Toquop area through sale or exchange. This document also evaluates the effects of an exchange of 640 acres in the Toquop area for 640 acres of private land located in the Pah Rah Range in Washoe County in northwestern Nevada. Federal actions addressed in the accompanying document are the BLM's issuance of rights-of-way needed to construct and operate the Toquop Energy Project and an amendment of the Caliente MFP to identify specific public lands as available for disposal through sale or facilitation of a land exchange as it relates to the proposed project. This Final EIS satisfies the National Environmental Policy Act, which mandates that federal agencies analyze the environmental consequences of major undertakings. The agency preferred alternative is the selected alternative for the proposed plan and Final EIS. The preferred alternative includes a proposed Toquop Land Disposal Amendment to the Caliente MFP, water-cooled power plant, western utility alignment ROW, wellfield ROW, and access road ROW, southern power plant site ROW, Toquop land disposal (southern parcel) through exchange. In addition to the proposed action, three other alternatives were developed for the Toquop Land Disposal Amendment to the Caliente MFP and Toquop Energy Project. The document contains a summary of the decisions and resulting impacts, an overview of the planning process and planning issues, the Proposed Plan Amendment, comment letters and responses and verbal comments received during public review of the Draft Plan Amendment and Toquop Energy Project, and responses to the substantive issues raised during the review.

The proposed Toquop Land Disposal Amendment to the Caliente Management Framework Plan may be protested by any person who participated in the planning process, and who has an interest which is or may be, adversely affected by the approval of the proposed plan amendment. A protest may raise only those issues which were submitted for the record during the planning process (see 43 Code of Federal Regulations 1610.5-2). The protest shall contain the following information:

• The name, mailing address, telephone number, and interest of the person filing the protest.

• A statement of the issue or issues being protested.

• A statement of the part or parts of the document being protested.

• A copy of all documents addressing the issue or issues previously submitted during the planning process by the protesting party, or an indication of the date the issue or issues were discussed for the record.

• A concise statement explaining precisely why the Bureau of Land Management, Nevada State Directors's decision is wrong.

Upon resolution of any protests, an Approved Plan Amendment and Record of Decision will be issued for the plan amendment. The Approved Plan Amendment/Record of Decision will be mailed to all individuals who participated in this planning process and all other interested public upon their request.

Mailing address for filing a protest:

Regular Mail

Director (210), Attn: Brenda Williams, P.O. Box 66538, Washington, DC 20035.

Overnight Mail

U.S. Department of the Interior, Director, Bureau of Land Management, Protest Coordinator (WO-210), 1620 “L” Street, NW., Rm 1075, Washington, DC 20036.

Dated: February 14, 2003.
Robert V. Abbey,
State Director, Nevada.

[FR Doc. 03-8798 Filed 4-10-03; 8:45 am]

BILLING CODE 4310-HC-P